DEPARTMENT OF HEALTH AND HUMAN SERVICES

Office of the Secretary

Findings of Scientific Misconduct

AGENCY: Office of the Secretary, HHS.

ACTION: Notice.

SUMMARY: Notice is hereby given that the Office of Research Integrity (ORI) and the Assistant Secretary for Health have taken final action in the following case:

Raghoottama S. Pandurangi, Ph.D., University of Missouri—Columbia (UMo): Based on the report of an investigation conducted by UMo and additional analysis conducted by ORI in its oversight review, the U.S. Public Health Service (PHS) found that Dr. Pandurangi, a former Research Assistant Professor at UMo, engaged in scientific misconduct by plagiarizing and falsifying research data taken from a journal article published by other scientists for use in supplementary materials of a research grant application submitted to the National Institutes of Health (NIH).

Specifically, PHS finds that Dr. Pandurangi plagiarized the images of data in Figures 2A and 2B and related text in supplemental material he submitted in connection with National Heart, Lung, and Blood Institute (NHLBI), NIH, grant application 1 R01 HL62517-01A2, Myocardial Viability by AII Receptor-99mTc Conjugates,” in which he was the principal investigator. Specifically, Figures 2A and 2B and related text were plagiarized from Figures 7C and 7D of the following journal publication: Gibson, R., Beauchamp, H., Fioravanti, C., Brenner, N., and Burns, H.D. “Receptor Binding Radiotracers for the Angiotensin II Receptor: Radioiodinated [Sar¹, Ile⁸]Angiotensin II,” Nuclear Medicine and Biology 21:593-600, 1994.

In addition, Dr. Pandurangi falsified the text in the supplement to his NIH grant application by claiming that Figures 2A and 2B represented a compound he had developed. Namely, he claimed that Figure 2A represented radioionated compound ¹²³I-2C and Figure 2B represented radioionated compound ¹²³I-2C with nonradioactive compound 2C added as a competitor. However, Figures 2A and 2B were plagiarized from the figures in the above Nuclear Medicine and Biology article, which in reality represented radiolabeled [Sar¹, Ile⁸]Angiotensin II, with compound L-158-809 as a blocker/competitor.

Dr. Pandurangi has entered into a Voluntary Exclusion Agreement (Agreement) with PHS in which he has voluntarily agreed:

(1) To exclude himself from any contracting or subcontracting with any agency of the United States Government and from eligibility for, or involvement in, nonprocurement transactions (e.g., grants and cooperative agreements) of the United States Government as defined in 45 CFR Part 76 (Debarment Regulations) for a period of one (1) year, beginning on July 17, 2001;

(2) that for an additional period of three (3) years following the one-year period of exclusion set forth above, any institution that submits an application for PHS support for a research project on which Dr. Pandurangi's participation is proposed or which uses him in any capacity on PHS supported research, or which submits a report of PHS supported research in which Dr. Pandurangi is involved, must concurrently submit to PHS and ORI (a) a plan for supervision of his duties during the particular PHS supported project at issue, which must be designed to ensure the scientific integrity of his research contribution; and (b) a certification that the data provided by Dr. Pandurangi are based on actual experiments or are otherwise legitimately derived, and that the data, procedures, and methodology are accurately reported in the application or research project; and

(3) to exclude himself from serving in any advisory capacity to PHS, including but not limited to service on any PHS advisory committee, board, and/or peer review committee, or as a consultant for a period of four (4) years, beginning on July 17, 2001.

FOR FURTHER INFORMATION CONTACT: Director, Division of Investigative Oversight Office of Research Integrity 5515 Security Lane, Suite 700 Rockville, MD 20852 (301) 443-5330.

Chris B. Pascal,
Director, Office of Research Integrity.

[FR Doc. 01-19307 Filed 8-1-01; 8:45 am]

BILLING CODE 4150-31-P